NUCLEAR REGULATORY COMMISSION

Application for a License To Export Major Components of a Nuclear Utilization Facility

Pursuant to 10 CFR 110.70(b)(1) “Public notice of receipt of an application,” please take notice that the Nuclear Regulatory Commission has received the following request for an export license. Copies of the request are available electronically through ADAMS and can be accessed through the Public Electronic Reading Room (PERR) link http://www.nrc.gov/reading-rm/adams.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

In its review of the application for a license to export major components of a nuclear utilization facility as defined in 10 CFR Part 110 and noticed herein, the Commission does not evaluate the health, safety or environmental effects in the recipient nation of the facility to be exported. The information concerning the application follows.

NRC Application for License to Export
Major components of a nuclear utilization facility
| Description of facility | End use | Country of destination
Name of Applicant: Westinghouse Electric Company. | Reactor Coolant Pumps (RCPs) and RCP Motors and other nuclear power plant equipment for use in the construction of two (2), 1400 MWe pressurized water reactors (PWRs) | For electricity generation at the Shin-Kori Units 3 and 4 nuclear power reactors | Republic of South Korea.
Date of Application: February 21, 2007.
Date Received: February 26, 2007.
Application Number: XR171.
Docket Number: 11005673.

Dated this 5th day of March 2007 at Rockville, Maryland.
For the Nuclear Regulatory Commission.
Margaret M. Doane,
Deputy Director, Office of International Programs.

[FR Doc. E7-4866 Filed 3-15-07; 8:45 am]

BILLING CODE 7590-01-P